DEPARTMENT OF TRANSPORTATION

Pipeline and Hazardous Materials Safety Administration

[Docket No. PHMSA-2025-0078]

Pipeline Safety: Information Collection Activities

AGENCY: Pipeline and Hazardous Materials Safety Administration (PHMSA), DOT.

ACTION: Notice and request for comments.

SUMMARY: In accordance with the Paperwork Reduction Act of 1995, Public Law 104-13, PHMSA invites public comments on PHMSA's intention to request Office of Management and Budget (OMB) approval to renew twelve information collections that are scheduled to expire in 2026. PHMSA has reviewed each information collection and considers them vital to maintaining pipeline safety. As such, PHMSA will request renewal from OMB, without change, for each information collection.

DATES: Interested persons are invited to submit comments on or before September 15, 2025.

ADDRESSES: Comments may be submitted in the following ways:

E-Gov website: http://www.regulations.gov. This site allows the public to submit comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m. ET, Monday through Friday, except Federal holidays.

Instructions: Identify the docket number, PHMSA-2025-0078, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m. ET, Monday through Friday, except Federal holidays. If you wish to receive confirmation of receipt of your written comments, please include a self-addressed, stamped postcard with the following statement: “Comments on: PHMSA-2025-0078.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement: DOT may solicit comments from the public regarding certain general notices. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 United States Code (U.S.C.) 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by email at Angela.Hill@dot.gov.

SUPPLEMENTARY INFORMATION: Title 5, Code of Federal Regulations (CFR) section 1320.8(d), requires PHMSA to provide interested members of the public and affected agencies the opportunity to comment on information collection and recordkeeping requests before they are submitted to OMB for approval. This notice identifies twelve information collection requests that PHMSA will submit to OMB for renewal and requests comment from interested parties. The information collections (including their expiration dates) are as follows: (1) OMB control number 2137-0631, Excess Flow Valves—New Customer Notifications (01/31/2026); (2) OMB control number 2137-0641, Natural Gas Distribution Infrastructure Safety and Modernization Grant Program (01/31/2026); (3) OMB control number 2137-0578, Reporting Safety-Related Conditions on Gas, Hazardous Liquid, and Carbon Dioxide Pipelines and Liquefied Natural Gas Facilities (03/31/2026); (4) OMB control number 2137-0596, National Pipeline Mapping Program (03/31/2026); (5) OMB control number 2137-0614, Hazardous Liquid Pipeline Operator Annual Reports (03/31/2026); (6) OMB control number 2137-0630, Hazardous Liquid Operator Notifications (03/31/2026); (7) OMB control number 2137-0636, Notification Requirements for Gas Transmission Pipelines (03/31/2026); (8) OMB control number 2137-0047, Transportation of Hazardous Liquids by Pipeline: Record keeping and Accident Reporting (04/30/2026); (9) OMB control number 2137-0049, Record keeping Requirements for Gas Pipeline Operators (04/30/2026); (10) OMB control number 2137-0629, Annual Report for Gas Distribution Operators (06/30/2026); (11) OMB control number 2137-0635, Incident Reports for Natural Gas Pipeline Operators (06/30/2026); and (12) OMB control number 2137-0522, Annual and Incident Reports for Gas Pipeline Operators (08/31/2026).

The following information is provided for these information collections: (1) Title of the information collection; (2) OMB control number; (3) Current expiration date; (4) Type of request; (5) Abstract of the information collection activity; (6) Description of affected public; (7) Estimate of total annual reporting and recordkeeping burden; and (8) Frequency of collection. PHMSA will request a three-year term of approval for each of the following information collection activities. PHMSA requests comments on the following information:

1. Title: Excess Flow Valves—New Customer Notifications.

OMB Control Number: 2137-0631.

Current Expiration Date: 01/31/2026.

Type of Request: Renewal, without change, of a currently approved collection.

Abstract: This information collection covers the reporting and recordkeeping requirements for gas pipeline operators associated with customer notifications pertaining to the installation of excess flow valves. Gas pipeline operators must notify customers of their right to request the installation of excess flow valves and keep records of those notifications. This information collection request includes examples of language that can be used to notify natural gas customers of their right to request the installation of an excess flow valve. Use of the language is voluntary but would comply with Federal regulatory requirements.

Affected Public: Operators of natural gas and hazardous liquid pipeline systems and operators of liquefied natural gas facilities.

Annual Reporting and Recordkeeping Burden:

Estimated number of responses: 4,448.

Estimated annual burden hours: 4,448.

Frequency of collection: On occasion.

2. Title: Natural Gas Distribution Infrastructure Safety and Modernization Grant Program.

OMB Control Number: 2137-0641.

Current Expiration Date: 01/31/2026.

Type of Request: Renewal, without change, of a currently approved collection.

Abstract: This information collection request covers the solicitation of applicant data from municipality- and community-owned utilities that are interested in applying to receive funds from the Natural Gas Distribution Infrastructure Safety and Modernization (NGDISM) Grant Program. Solicitation for grants under the NGDISM Grant Program is voluntary. To be eligible, however, municipality- and community-owned utilities must meet all the requirements set forth in the law. Therefore, PHMSA must collect certain information from applicants to determine eligibility and evaluate applications. PHMSA must also verify the accuracy of grant requests from approved applicants, in accordance with Title VI of the Civil Rights Act of 1964, Section 504 of the Rehabilitation Act of 1973, and other laws and regulations governing Federal financial assistance programs, including (but not limited to) the Anti-Deficiency Act, the Federal Funding Accountability and Transparency Act (FFATA), the Payment Integrity Information Act of 2019, and 2 CFR part 200, among others. This information collection request also covers the submission of post-award data and environmental assessments of awarded projects.

Affected Public: Municipality- and Community-owned Utilities.

Annual Burden:

Estimated number of responses: 1,540.

Estimated annual burden hours: 39,840.

Frequency of collection: On occasion.

3. Title: Reporting Safety-Related Conditions on Gas, Hazardous Liquid, and Carbon Dioxide Pipelines and Liquefied Natural Gas Facilities.

OMB Control Number: 2137-0578.

Current Expiration Date: 03/31/2026.

Type of Request: Renewal, without change, of a currently approved collection.

Abstract: This mandatory information collection request covers the collection of data on safety-related conditions occurring on a pipeline. 49 U.S.C. 60102 requires each operator of a pipeline facility (except master meter operators) to submit to DOT a written report on any safety-related condition that causes or has caused a significant change or restriction in the operation of a pipeline facility or a condition that is hazardous to life, property, or the environment.

Affected Public: Operators of natural gas pipeline systems, hazardous liquid pipeline systems and liquefied natural gas facilities.

Annual Reporting and Recordkeeping Burden:

Estimated number of responses: 174.

Estimated annual burden hours: 1,044.

Frequency of Collection: On occasion.

4. Title: National Pipeline Mapping Program.

OMB Control Number: 2137-0596.

Current Expiration Date: 03/31/2026.

Type of Request: Renewal, without change, of a currently approved collection.

Abstract: The Pipeline Safety Improvement Act of 2002 (Pub. L. 107-355), 49 U.S.C. 60132, “National Pipeline Mapping System,” requires operators of a pipeline facility (except distribution lines and gathering lines) to provide information to the Pipeline and Hazardous Safety Administration (PHMSA). Each operator is required to submit geospatial data appropriate for use in the National Pipeline Mapping System or data in a format that can be readily converted to geospatial data; the name and address of the person with primary operational control (to be known as its operator), and a means for a member of the public to contact the operator for additional information about the pipeline facilities it operates. Operators will submit the requested data elements once and make annual updates to the data if necessary. These data elements strengthen the effectiveness of PHMSA's risk rankings and evaluations, which are used as a factor in determining pipeline inspection priority and frequency; allow for more effective assistance to emergency responders by providing them with a more reliable complete data set of pipelines and facilities; and provide better support to PHMSA's inspectors by providing more accurate pipeline locations and additional pipeline-related geospatial data that can be linked to tabular data in PHMSA's inspection database.

Affected Public: Operators of natural gas and hazardous liquid pipeline systems.

Annual Reporting and Recordkeeping Burden:

Estimated number of responses: 1,346.

Estimated annual burden hours: 162,208.

Frequency of Collection: On occasion.

5. Title: Hazardous Liquid Pipeline Operator Annual Reports.

OMB Control Number: 2137-0614.

Current Expiration Date: 03/31/2026.

Type of Request: Renewal, without change, of a currently approved collection.

Abstract: The Federal pipeline safety regulations at 49 CFR part 195.58 require operators of hazardous liquid pipelines to submit specific data on the safety of their pipelines annually. This mandatory information collection requires operators to submit data on the preceding year electronically by March 15th of each calendar year. This information is used by PHMSA to identify trends in hazardous liquid pipeline accidents and to identify operators who have poor safety records.

Affected Public: Operators of hazardous liquid pipeline systems.

Annual Reporting and Recordkeeping Burden:

Estimated number of responses: 950.

Estimated annual burden hours: 18,050.

Frequency of collection: On occasion.

6. Title: Hazardous Liquid Operator Notifications.

OMB Control Number: 2137-0630.

Current Expiration Date: 03/31/2026.

Type of Request: Renewal, without change, of a currently approved collection.

Abstract: The pipeline safety regulations contained within 49 CFR part 195 require hazardous liquid operators to notify PHMSA in various instances. 49 CFR part 195.414 requires hazardous liquid operators who are unable to inspect their pipeline facilities within 72 hours of an extreme weather event to notify the appropriate PHMSA Region Director as soon as practicable. 49 CFR part 195.452 requires operators of pipelines that cannot accommodate an in-line inspection tool to file a petition in compliance with 49 CFR part 190.9. These mandatory notifications help PHMSA to stay abreast of issues related to the health and safety of the Nation's pipeline infrastructure.

Affected Public: Operators of hazardous liquid pipeline systems.

Annual Reporting and Recordkeeping Burden:

Estimated number of responses: 110.

Estimated annual burden hours: 125.

Frequency of Collection: On occasion.

7. Title: Notification Requirements for Gas Transmission Pipelines.

OMB Control Number: 2137-0636.

Current Expiration Date: 03/31/2026.

Type of Request: Renewal, without change, of a currently approved information collection.

Abstract: A person owning or operating a natural gas pipeline facility is required to provide information to the Secretary of Transportation at the Secretary's request according to 49 U.S.C. 60117. The pipeline safety regulations contained within 49 CFR part 192 require operators to make various notifications upon the occurrence of certain events. The provisions covered under this information collection request involve notification requirements for gas transmission pipeline operators who utilize alternative or expanded technologies and analyses when conducting tests and inspections. These notification requirements are necessary to ensure safe operation of transmission pipelines, ascertain compliance with gas pipeline safety regulations, and to provide a background for incident investigations. These mandatory notifications help PHMSA to stay abreast of issues related to the health and safety of the Nation's pipeline infrastructure.

Affected Public: Operators of gas transmission pipeline systems.

Annual Reporting and Recordkeeping Burden:

Estimated number of responses: 722.

Estimated annual burden hours: 1,070.

Frequency of Collection: On occasion.

8. Title: Transportation of Hazardous Liquids by Pipeline: Record keeping and Accident Reporting.

OMB Control Number: 2137-0047.

Current Expiration Date: 04/30/2026.

Type of Request: Renewal, without change, of a currently approved information collection.

Abstract: To ensure adequate public protection from exposure to potential hazardous liquid pipeline failures, PHMSA collects information on reportable hazardous liquid pipeline accidents. This mandatory information collection covers hazardous liquid pipeline accident report requirements in 49 CFR part 195.50 and general record keeping burden associated with complying with Federal hazardous liquid pipeline safety regulations in part 195. The definition of an “accident” and the reporting criteria for submitting a Hazardous Liquid Accident Report (form PHMSA F7000-1) is detailed in 49 CFR part 195.54. 49 CFR part 195.54 requires hazardous liquid operators to file an accident report, as soon as practicable, but not later than 30 days after discovery of the accident, on DOT Form 7000-1, whenever there is a reportable accident.

Affected Public: Operators hazardous liquid pipeline systems.

Annual Reporting and Recordkeeping Burden:

Estimated number of responses: 1,646.

Estimated annual burden hours: 53,777.

Frequency of Collection: On occasion.

9. Title: Record keeping Requirements for Gas Pipeline Operators.

OMB Control Number: 2137-0049.

Current Expiration Date: 04/30/2026.

Type of Request: Renewal, without change, of a currently approved information collection.

Abstract: A person owning or operating a natural gas pipeline facility is required to maintain records, make reports, and provide information to the Secretary of Transportation at the Secretary's request. This mandatory information collection request would require owners and/or operators of gas pipeline systems to make and maintain records in accordance with the requirements prescribed in 49 CFR part 192 and to provide information to the Secretary of Transportation at the Secretary's request. Certain records are maintained for a specific length of time while others are required to be maintained for the life of the pipeline. PHMSA uses these records to verify compliance with Federal pipeline safety regulations and to inform the Agency of possible safety risks.

Affected Public: Operators natural, and other, gas pipeline systems.

Annual Reporting and Recordkeeping Burden:

Estimated number of responses: 3,861,842.

Estimated annual burden hours: 1,677,030.

Frequency of Collection: On occasion.

10. Title: Annual Report for Gas Distribution Operators.

OMB Control Number: 2137-0629.

Current Expiration Date: 06/30/2026.

Type of Request: Renewal, without change, of a currently approved information collection.

Abstract: This information collection request requires operators of gas distribution pipeline systems to submit annual report data to PHMSA in accordance with 49 CFR part 191 using PHMSA F 7100.1-1. The form is to be submitted once for each calendar year. The annual report form collects data about the pipe material, size, and age. The form also collects data on leaks from these systems as well as excavation damages. PHMSA uses the information to track the extent of gas distribution systems and normalize incident and leak rates.

Affected Public: Operators gas distribution pipeline systems.

Annual Reporting and Recordkeeping Burden:

Estimated number of responses: 1,446.

Estimated annual burden hours: 28,920.

Frequency of Collection: Annually.

11. Title: Incident Reports for Natural Gas Pipeline Operators.

OMB Control Number: 2137-0635.

Current Expiration Date: 06/30/2026.

Type of Request: Renewal, without change, of a currently approved information collection.

Abstract: Operators of natural gas pipelines and liquefied natural gas (LNG) facilities are required to report incidents, on occasion, to PHMSA per the requirements in 49 CFR part 191. This mandatory information collection covers the collection of incident report data from natural gas pipeline operators. This information is an essential part of PHMSA's overall effort to minimize natural gas transmission, gathering, and distribution pipeline failures.

Affected Public: Operators gas pipeline systems.

Annual Reporting and Recordkeeping Burden:

Estimated number of responses: 840.

Estimated annual burden hours: 2,927.

Frequency of Collection: On occasion.

12. Title: Annual and Incident Reports for Gas Pipeline Operators.

OMB Control Number: 2137-0522.

Current Expiration Date: 08/31/2026.

Type of Request: Renewal, without change, of a currently approved information collection.

Abstract: This mandatory information collection covers the collection of data from operators of natural gas pipelines, underground natural gas storage facilities, and LNG facilities for annual reports. 49 CFR part 191.17 requires operators of underground natural gas storage facilities, gas transmission systems, and gas gathering systems to submit an annual report by March 15, for the preceding calendar year. PHMSA revised the “Annual Report for Natural and Other Gas Transmission and Gathering Pipeline Systems” to collect data on the number of one-call tickets and excavation damage events in a calendar year.

Affected Public: Operators gas pipeline systems.

Annual Reporting and Recordkeeping Burden:

Estimated number of responses: 2,445.

Estimated annual burden hours: 104,596.

Frequency of Collection: On occasion.

Comments are invited on:

(a) The need for the renewal and revision of these collections of information for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on July 11, 2025, under authority delegated in 49 CFR 1.97.
John A. Gale,
Director, Standards and Rulemaking Division.

[FR Doc. 2025-13218 Filed 7-14-25; 8:45 am]

BILLING CODE 4910-60-P